DEPARTMENT OF AGRICULTURE

Forest Service

Notice of Intent To Issue Forest Order Closing the Mark Twain National Forest, Missouri to Feral Swine Hunting

AGENCY: Forest Service, USDA.

ACTION: Notice.

SUMMARY: The U.S. Department of Agriculture, Forest Service is giving notice of its intent to close the Mark Twain National Forest to the hunting of feral swine in advance of the public comment period for the proposed closure. At the end of the notice of intent period, the Forest Service will solicit public comments, as specified in this notice, on the proposed forest order that would prohibit hunting of feral swine by the public on the Mark Twain National Forest in support of interagency efforts to eliminate feral swine across all land ownership in the State of Missouri.

DATES: Notice of intent of the closure is being provided until May 24, 2019. Beginning on May 24, 2019, the U.S. Department of Agriculture, Forest Service, will solicit comments on the proposed forest order for 60 days. The solicitation for public comment will be posted on http://www.fs.usda.gov/goto/mtnf/feralswine. The Mark Twain National Forest also will hold a public listening session on June 18, 2019, to gather public feedback on the proposed forest order.

ADDRESSES: The proposed forest order and the justification for the forest order are available on the Forest Service websites http://www.fs.usda.gov/goto/mtnf/feralswine.

FOR FURTHER INFORMATION CONTACT: Amy Salveter, Public Services Staff Officer, at 573-341-7466 or Amy.Salveter@usda.gov.

Individuals who use TDD may call the Federal Relay Service (FRS) at 1-800-877-8339, 24 hours a day, every day of the year, including holidays.

SUPPLEMENTARY INFORMATION:

I. Advance Notice and Public Comment Procedures

Section 4103 of the John D. Dingell, Jr. Conservation, Management, and Recreation Act (Pub. L. 116-9) requires that the Secretary of Agriculture, acting through the Chief of the Forest Service, provide public notice and comment before permanently or temporarily closing any National Forest System land to hunting, fishing, or recreational shooting. Section 4103 applies to the proposed forest order closing the Mark Twain National Forest to hunting of feral swine by the public. The public notice and comment process in section 4103(b)(2) requires the Secretary to publish a notice of intent, in the Federal Register, of the proposed closure in advance of the public comment period for the closure. This notice meets the requirement to publish a notice of intent in the Federal Register in advance of the public comment period.

Following the notice of intent, section 4103(b)(2) requires an opportunity for public comment. Because the proposed forest order would permanently close the Mark Twain National Forest to hunting of feral swine, the comment period must be not less than 60 days. Beginning on May 24, 2019, the Forest Service will solicit comments on the proposed forest order for 60 days. The solicitation for public comment will be posted on http://www.fs.usda.gov/goto/mtnf/feralswine.

Section 4103(b)(2) requires the Secretary to respond to the comments received on the proposed forest order, explain how the Secretary resolved any significant issues raised by the comments, and show how the resolution led to the closure. The Forest Service will respond to comments on the proposed forest order closing the Mark Twain National Forest to hunting of feral swine by revising its justification for the forest order, as needed, and posting the revised justification on http://www.fs.usda.gov/goto/mtnf/feralswine.

II. Background and Need for Forest Order

Feral swine are a harmful and destructive invasive species that are well established in 47 Missouri counties, the majority of which fall within the Mark Twain National Forest. The Mark Twain National Forest has approximately 1.4 million acres that are threatened by feral swine. Feral swine are highly adaptable animals and prolific breeders. They are social animals that travel together in large groups called sounders and have a home range of about 1,000 acres.

The hunting of feral swine on the Mark Twain National Forest interferes with collaborative interagency efforts to eliminate feral swine in Missouri. Government trappers employed in these efforts identify home ranges and find the best spot in that range to catch the entire sounder all at the same time. Shooting at one or two swine or pursuing them with dogs will cause the sounder (the entire group) to scatter, which makes trapping the sounder all at the same time more difficult.

The Mark Twain National Forest Supervisor is proposing to issue a forest order prohibiting the hunting of feral swine on the Forest. Issuance of the forest order would respond to a request from the Missouri Department of Conservation (MDC) to make policies consistent across all lands in Missouri to halt the spread and resulting environmental damage caused by feral swine. The State of Missouri feral swine eradication program bans all taking, pursuing or releasing of feral swine on lands owned, leased, or managed by the state. The proposed closure order would align the management of National Forest System lands with the eradication efforts of MDC and other federal agencies, including USDA Animal and Plant Health Inspection Service. The proposed forest order and the justification for the forest order are available on the Forest Service websites http://www.fs.usda.gov/goto/mtnf/feralswine.

Dated: May 13, 2019.
Frank R. Beum,
Acting Associate Deputy Chief, National Forest System.

[FR Doc. 2019-10311 Filed 5-16-19; 8:45 am]

BILLING CODE 3411-15-P